DEPARTMENT OF THE TREASURY

Internal Revenue Service

26 CFR Part 301

[TD 9460]

RIN 1545-BD67

Declaratory Judgments—Gift Tax Determinations; Correction

AGENCY: Internal Revenue Service (IRS), Treasury.

ACTION: Correcting amendment.

SUMMARY: This document contains corrections to final regulations (TD 9460) that were published in the Federal Register on Wednesday, September 9, 2009 regarding petitions filed with the United States Tax Court for declaratory judgments with respect to the valuation of gifts.

DATES: This correction is effective on October 27, 2009 and is applicable in taxable years ending on or after September 9, 2009.

FOR FURTHER INFORMATION CONTACT: Juli Ro Kim or George Masnik, (202) 622-3090 (not a toll free number).

SUPPLEMENTARY INFORMATION:

Background

The final regulations (TD 9460) that are the subject of these corrections are under section 7477 of the Internal Revenue Code.

Need for Correction

As published on September 9, 2002 (74 FR 46347), the final regulations (TD 9460) contain errors that may prove to be misleading and are in need of clarification.

List of Subjects in 26 CFR Part 301

Employment taxes, Estate taxes, Excise taxes, Gift taxes, Income taxes, Penalties, Reporting and recordkeeping requirements.

Correction of Publication

Accordingly, 26 CFR part 301 is corrected by making the following correcting amendments:

PART 301—PROCEDURE AND ADMINISTRATION

Paragraph 1. The authority citation for part 301 continues to read in part as follows:

Authority: 26 U.S.C. 7805 * * *

Par. 2. Section 301.7477-1 is amended by revising the second sentence of paragraph (d)(2) to read as follows:

§ 301.7477-1 Declaratory judgments relating to the value of certain gifts for gift tax purposes.

* * * * *

(d) * * *

(2) * * * For purposes of this paragraph (d)(2), the term return of tax imposed by chapter 12 means the last gift tax return (Form 709, “United States Gift (and Generation-Skipping Transfer) Tax Return” or such other form as may be utilized for this purpose from time to time by the IRS) for the calendar year filed on or before the due date of the return, including extensions granted if any, or, if a timely return is not filed, the first gift tax return for that calendar year filed after the due date. * * *

* * * * *

LaNita VanDyke,
Chief, Publications and Regulations Branch, Legal Processing Division, Associate Chief Counsel (Procedure and Administration).

[FR Doc. E9-25737 Filed 10-26-09; 8:45 am]

BILLING CODE 4830-01-P